DEPARTMENT OF ENERGY

Federal Energy Regulatory Commission

[Project No. 12740-008]

Jordan Hydroelectric Limited Partnership, Virginia; Notice of Application for Amendment of License, Soliciting Comments, Motions To Intervene, and Protests

Take notice that the following hydroelectric application has been filed with the Commission and is available for public inspection:

a. Type of Proceeding: Amendment of License.

b. Project No.: 12740-008.

c. Date Filed: March 10, 2021.

d. Licensee: Jordan Hydroelectric Limited Partnership, Virginia.¹

¹ On March 12, 2021, subsequent to filing the amendment application, Jordan Hydroelectric Limited Partnership and Flannagan Hydro, LLC filed an Application for Approval of Transfer of License. Commission staff is reviewing the transfer of license under a separate proceeding.

e. Name of Project: Flannagan Hydroelectric Project.

f. Location: The project is located at the U.S. Army Corps of Engineers' (Corps) John W. Flannagan Dam and Reservoir, which is on the Pound River, near the Town of Clintwood, in Dickenson County, Virginia.

g. Filed Pursuant to: Federal Power Act, 16 U.S.C. 791a-825r.

h. Licensee Contact: Mr. James B. Price, President, General Partner Jordan Hydroelectric Limited Partnership, P.O. Box 903 Gatlinburg, TN 37738, (803) 215-4165, jimpricehydro@bellsouth.net.

i. FERC Contact: Jeremy Jessup, (202) 502-6779, Jeremy.Jessup@ferc.gov.

j. Deadline for filing comments, motions to intervene, and protests, is 30 days from the issuance date of this notice by the Commission.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. The first page of any filing should include docket number P-12740-008. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The applicant proposes to redesign the project to have four smaller Turgo-type turbine-generators in lieu of the approved two Francis-type turbine-generators. The design change would decrease the project capacity from 1.8 megawatts (MW) to 1.4 MW and decreases the hydraulic capacity from 180 cubic feet per second (cfs) to 150 cfs. The licensee states that this redesign will better align with the existing features of the Flannagan Dam and produce more energy on a yearly basis than the previous design. The licensee states that it is not proposing changes to any other aspects of the project and that the environmental impact of the project will not change from previously analyzed.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: April 29, 2021.
Kimberly D. Bose,
Secretary.

[FR Doc. 2021-09515 Filed 5-4-21; 8:45 am]

BILLING CODE 6717-01-P